NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by August 13, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows:

1. Applicant: Douglas P. Nowacek, Duke University, Marine Laboratory, 135 Duke Marine Lab Rd., Beaufort, NC 28516.

Permit Application No.: 2009-014.

Activity for Which Permit Is Requested: Take. The applicant plans to approach up to 50 Humpback and Minke whales each per season to conduct visual observations, photograph and attach non-invasive DTags to record fine-scale movement patterns and foraging behavior of the whales. An active release, which corrodes in sea water, can be timed to release the tag once data storage is complete. The tags will be recovered and returned to the ship. In addition, photography and observations of the whales will help to identify individual whales and determine approximate ages.

Location: Near-shore waters of the Western Antarctic Peninsula between Anvers Island and Adelaide Islands.

Dates: February 1, 2009 to June 30, 2010.

Nadene G. Kennedy,
Permit Officer, Office of Polar Programs.

[FR Doc. E8-15933 Filed 7-11-08; 8:45 am]

BILLING CODE 7555-01-P